DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 74 FR 19522-19528, dated April 18, 2007) is amended to reflect the establishment of the Office of Mine Safety and Health within the National Institute for Occupational Safety and Health (CC), Centers for Disease Control and Prevention (C). The reorganization will also realign the Pittsburgh Research Laboratory (CCB) and the Spokane Research Laboratory (CCF) in their entirety and with their current organization structure to the Office of Mine Safety and Health.

I. Section C-B, Organization and Functions, is hereby amended as follows:

Under Part C, Centers for Disease Control and Prevention (C), National Institute for Occupational Safety and Health (CC), delete the following components in their entireties:

• Pittsburgh Research Laboratory (CCB).

• Spokane Research Laboratory (CCF).

II. Under Part C, Centers for Disease Control and Prevention (C), National Institute for Occupational Safety and Health (CC), add the following organizational unit:

Office of Mine Safety & Health Research (CCM): The Office of Mine Safety and Health (1) provides national and international leadership for the prevention of work-related illness, injury, and fatalities of mine workers through research and prevention activities at the Pittsburgh and Spokane Research Laboratories; (2) performs research, development, and testing of new technologies, equipment, and practices to enhance mine safety and health; (3) awards competitive grants to encourage the development and manufacture of mine safety equipment; (4) awards contracts for product testing or related work with respect to new mine technology and equipment; (5) establishes and leads an interagency working group to share technology and technological research and developments that could be utilized to enhance mine safety and accident response; (6) reports to Congress annually on mine safety technologies that have been considered, studied, and tested; (7) coordinates NIOSH research and prevention activities for the mining sector; and (8) provides policy guidance to the NIOSH Director on mining safety and health issues.

The Pittsburgh Research Laboratory (CCMB) functions and delegations of authority are transferred intact.

The Spokane Research Laboratory (CCMC) functions and delegations of authority are transferred intact.

III. Delegations of Authority: All delegations and redelegations of authority made to official and employees of affected organizational components will continue in them or their successors pending further redelegation, provided they are consistent with this reorganization.

IV. Funds, Personnel and Equipment: Transfer of organizations and functions affected by this reorganization shall be accompanied in each instance by direct and support funds, positions, personnel, records, equipment, supplies and other resources.

Dated: November 9, 2007.
Michael O. Leavitt,
Secretary.

[FR Doc. 07-5866 Filed 11-27-07; 8:45 am]

BILLING CODE 4160-18-M